FEDERAL EMERGENCY MANAGEMENT AGENCY

44 CFR Part 67

[Docket No. FEMA-B-7420]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFE and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

Flooding source(s) | Location of referenced elevation | Elevation in feet *(NGVD): Effective | Elevation in feet *(NGVD): Modified | Communities affected
CALIFORNIA
San Diego County and Incorporated Areas
Alvarado Creek | At Pennsylvania Lane extension, approximately 1,000 feet downstream of 70th Street | None | *379 | City of La Mesa, City of San Diego.
| Approximately 2,000 feet downstream of Lake Murray Boulevard | None | *407 |
| Approximately 900 feet downstream of Comanche Boulevard | None | *425 |
| Approximately 300 feet upstream of Fletcher Parkway | None | *454 |
ADDRESSES
City of La Mesa
Maps are available for inspection at the Department of Public Works/Community Development, City Hall, 8130 Allison Avenue, La Mesa, California.
Send comments to The Honorable Art Madrid, Mayor, City of La Mesa, P.O. Box 937, La Mesa, California 91944-0937.
City of San Diego
Maps are available for inspection at the City Development Services Center, 1222 First Avenue, Third Floor, San Diego, California.
Send comments to The Honorable Richard M. Murphy, Mayor, City of San Diego, 200 C Street, 11th Floor, San Diego, California, 92101.
NEBRASKA
Colfax County and Incorporated Areas
Shell Creek | Approximately 800 feet downstream of the County Bridge located at the west section-line of the southwest ¼ of section 9 T17N-R4E | None | *1,331 | Colfax County (Unincorporated Areas) and City of Schuyler.
| Approximately 2,000 feet downstream of U.S. Highway 30 | *1,348 | *1,348 |
| Approximately 4,600 feet downstream of State Highway 15 | *1,369 | *1,368 |
| At County Bridge on Colfax/Platte County boundary located approximately 300 feet south of middle of west section line of section 19 | None | *1,445 |
ADDRESSES
Colfax County (Unincorporated Areas)
Maps are available for inspection at the County Map Repository, 411 East 11th Street, Schuyler, NE 68661.
Send comments to The Honorable Paul Pekarek, Chairman, Colfax County Board of Commissioners, 411 East 11th Street, Schuyler, NE 68661.
City of Schuyler
Maps are available for inspection at the Community Map Repository, 1103 B Street, Schuyler, NE 68661.
Send comments to The Honorable David F. Reinecke, Mayor, City of Schuyler, Municipal Building, 1103 B Street, Schuyler, NE 68661.
OKLAHOMA
Oklahoma County and Incorporated Areas
Chisholm Creek | Approximately 3,900 feet downstream of Danforth Street | *1,045 | *1,052 | City of Edmond. City of Oklahoma City.
| Just upstream of Memorial Road | *1,122 | *1,124 |
| Just downstream of Hefner Road | *1,167 | *1,167 |
Chisholm Creek Tributary 3 (Pond Creek) | At confluence with Chisholm Creek | *1,040 | *1,049 | City of Edmond.
| Just upstream of Danforth Road | *1,074 | *1,075 | City of Oklahoma City.
ADDRESSES
City of Edmond
Maps are available for inspection at 100 East First Street, Edmond, Oklahoma.
Send comments to The Honorable Robert Rudkin, Mayor, City of Edmond, P.O. Box 2970, Edmond, Oklahoma 73073-2970
City of Oklahoma City
Maps are available for inspection at 420 West Main Street, Oklahoma City, Oklahoma.
Send comments to The Honorable Kirk Humphreys, Mayor, City of Oklahoma City, 200 North Walker, Suite 302, Oklahoma City, Oklahoma 73102.
TEXAS
Travis County and Incorporated Areas
Colorado River/Lake Travis | Portions of Colorado River/Lake Travis from approximately 4 miles upstream to approximately 21 miles upstream of Mansfield Dam | *716 | *716 | Travis County (Unincorporated Areas), City of Jonestown, City of Largo Vista, City of Lakeway.
Cow Creek | From confluence with Colorado River/Lake Travis to approximately 3 miles upstream | *716 | *716 | Travis County (Unincorporated Areas).
Flat Creek | From confluence with Colorado River/Lake Travis to approximately 2,100 feet upstream | *716 | *716 | Travis County (Unincorporated Areas).
ADDRESSES
Travis County (Unincorporated Areas)
Maps are available for inspection at 411 West 13th Street, 8th Floor, Permit Office, Austin, Texas.
Send comments to The Honorable Samuel T. Biscoe, Travis County Judge, P.O. Box 1748, Austin, Texas 78767-1748.
City of Jonestown
Maps are available for inspection at City Hall, 18649 FM 1431, Suite 4A, Jonestown, Texas.
Send comments to The Honorable Sam Billings, 18649 FM 1431, Suite 4a, Jonestown, Texas 78645.
City of Lago Vista
Maps are available for inspection at City Hall, 5803 Thunderbird, Lago Vista, Texas.
Send comments to The Honorable Dennis Jones, P.O. Box 4727, Lago Vista, Texas 78645.
City of Lakeway
Maps are available for inspection at City Hall, 104 Cross Creek, Lakeway, Texas.
Send comments to The Honorable Charles Edwards, Mayor, City of Lakeway, 104 Cross Creek, Lakeway, Texas 78734.
UTAH
Salt Lake County and Incorporated Areas
Willow Creek (West) | Just upstream of 11400 South Street | *4,358 | *4,362 | City of Draper.
| Approximately 100 feet upstream of 12300 South Street | *4,410 | *4,409 |
| Approximately 1,250 feet upstream of 150 East Road | None | *4,322 |
Midas Creek | At confluence with Jordan River | None | *4,322 |
| Approximately 250 feet upstream of 3600 West Street | None | *4,603 | Salt Lake County (Unincorporated Areas), City of Riverton, City of South Jordan.
ADDRESSES
Salt Lake County (Unincorporated Areas)
Maps are available for inspection at 2001 South State Street, Suite N 3300, Salt Lake City, Utah.
Send comments to The Honorable Nancy Workman, Mayor, Salt Lake County, 2001 South State Street, Suite N 2100, Salt Lake City, Utah 84109.
City of Draper
Maps are available for inspection at the Engineering Department, 12441 South 900 East, Draper, Utah.
Send comments to The Honorable Richard D. Alsop, Mayor, City of Draper, 12441 South 900 East, Draper, Utah 84020.
City of Riverton
Maps are available for inspection at City Hall, 949 East 12400 South Street, Riverton, Utah.
Send comments to The Honorable Sandra Lloyd, Mayor, City of Riverton, 12765 South 1400 West, Riverton, Utah 84064.
City of South Jordan
Maps are available for inspection at 10996 South Redwood Road, South Jordan, Utah.
Send comments to The Honorable Dix McMullin, Mayor, City of South Jordan, 11175 South Redwood Road, South Jordan, Utah 84095.
# Depth in feet above ground.

(Catalog of Federal Domestic Assistance No. 83.100, “Flood Insurance.”)

Dated: October 29, 2001.
Robert F. Shea,
Acting Administrator, Federal Insurance, and Mitigation Administration.

[FR Doc. 01-28297 Filed 11-9-01; 8:45 am]

BILLING CODE 6718-04-P